DEPARTMENT OF THE INTERIOR

National Park Service

Notice of Inventory Completion for Native American Human Remains and Associated Funerary Objects in the Possession of the Springfield Science Museum, Springfield, MA; Correction

AGENCY: National Park Service, Interior.

ACTION: Notice.

Notice is here given in accordance with the Native American Graves Protection and Repatriation Act (NAGPRA), 25 U.S.C. 3003, of the completion of an inventory of human remains and associated funerary objects in the possession of the Springfield Science Museum, Springfield, MA. The human remains and associated funerary objects were recovered from an unnamed site in Santa Barbara County, CA.

This notice is published as part of the National Park Service’s administrative responsibilities under NAGPRA, 25 U.S.C. 3003 (d)(3). The determinations within this notice are the sole responsibility of the museum, institution, or Federal agency that has control of the Native American human remains and associated funerary objects. The National Park Service is not responsible for the determinations within this notice.

This notice and a companion notice of intent to repatriate correction replace the notice of inventory completion that was published in the Federal Register on April 16, 1996 (FR Doc. 96-9366, page 16643). The two correction notices revise the total number of human remains and funerary objects and provide additional evidence for cultural affiliation. These corrections are necessary as the result of reevaluation of the collection and accompanying documentation that reduces the numbers of cultural items considered culturally affiliated with the Santa Ynez Band of Chumash Mission Indians of the Santa Ynez Reservation, California. The total number of human remains is reduced from a minimum of two to one individual. The total number of funerary objects is reduced from 200 to 65 associated funerary objects and 39 unassociated funerary objects. The human remains and associated funerary objects are described in this notice of inventory completion correction; the unassociated funerary objects are described in the companion notice of intent to repatriate.

A detailed assessment of the human remains and associated funerary objects was made by the Springfield Science Museum professional staff in consultation with representatives of the Santa Ynez Band of Chumash Mission Indians of the Santa Ynez Reservation, California. The Esselin Nation and Ti’at Society/Traditional Council of Pima (two nonfederally recognized Indian groups) also were consulted regarding the human remains and associated funerary objects.

In 1909, human remains representing a minimum of one individual were removed by Dr. Jacob T. Bowne from an unnamed site in Santa Barbara County, CA. Dr. Bowne donated the human remains to the Springfield Science Museum in 1925. No known individual was identified. The 65 associated funerary objects are 46 obsidian, quartz, and flint flakes; 12 clam and snail shells; and 7 mammal and bird bones.

Archeological evidence indicates that the site was used as a burial/funerary area from the Late Precontact period to the mid-19th century (A.D. 1400 to 1850). Analysis of the funerary practices, tools, ornamentation, and funerary objects at various components of the site indicates cultural continuity throughout the Late Precontact period to the mid-19th century. Consultation evidence presented by representatives of the Santa Ynez Band of Chumash Mission Indians of the Santa Ynez Reservation, California indicates that funerary practices, tool manufacture, ornamentation types, and funerary objects are identical to Chumash traditional practices documented in the Historic period. Overall evaluation of the totality of the circumstances and evidence indicates a probable cultural affiliation between the human remains and associated funerary objects and several Chumash Indian groups, including the Santa Ynez Band of Chumash Mission Indians of the Santa Ynez Reservation, California and several nonfederally recognized Indian groups.

Officials of the Springfield Science Museum have determined that, pursuant to 25 U.S.C. 3001 (9-10), the human remains described above represent the physical remains of one individual of Native American ancestry. Officials of the Springfield Science Museum also have determined that, pursuant to 25 U.S.C. 3001 (3)(A), the 65 objects listed above are reasonably believed to have been placed with or near individual human remains at the time of death or later as part of a death rite or ceremony. Lastly, officials of the Springfield Science Museum have determined that, pursuant to 25 U.S.C. 3001 (2), there is a relationship of shared group identity that can be reasonably traced between the Native American human remains and associated funerary objects and the Santa Ynez Band of Chumash Mission Indians of the Santa Ynez Reservation, California.

Representatives of any other Indian tribe that believes itself to be culturally affiliated with the human remains and associated funerary objects should contact David Stier, Director, Springfield Science Museum, 236 State Street, Springfield, MA 01103, telephone (413) 263-6800, extension 321, before June 2, 2003. Repatriation of the human remains and associated funerary objects to the Santa Ynez Band of Chumash Mission Indians of the Santa Ynez Reservation, California may proceed after that date if no additional claimants come forward.

The Springfield Science Museum is responsible for notifying the Santa Ynez Band of Chumash Mission Indians of the Santa Ynez Reservation, California; Esselin Nation; and Ti’at Society/Traditional Council of Pima that this notice has been published.

Dated: April 8, 2003.
John Robbins,
Assistant Director, Cultural Resources.

[FR Doc. 03-10916 Filed 5-1-03; 8:45 am]

BILLING CODE 4310-70-S